DEPARTMENT OF AGRICULTURE

Office of the Secretary

7 CFR Part 7

RIN 0560-AG90

Selection and Functions of Farm Service Agency State and County Committees

AGENCY: Office of the Secretary, USDA.

ACTION: Proposed rule; correction.

SUMMARY: This document corrects a proposed rule published November 28, 2006, proposing to amend the regulations governing the selection and functions of Farm Service Agency (FSA) State and county committees in accordance with the Soil Conservation and Domestic Allotment Act, as amended. A correction is needed because the proposed rule incorrectly stated the duties of the State committees.

DATES: Effective Date: January 12, 2007.

FOR FURTHER INFORMATION CONTACT: Tom Witzig, Regulatory Review Group, Economic and Policy Analysis Staff, Farm Service Agency (FSA), United States Department of Agriculture (USDA), Stop 0572, 1400 Independence Ave., SW., Washington, DC 20250-0572. Telephone: (202) 205-5851; e-mail: Tom.Witzig@wdc.usda.gov. Persons with disabilities who require alternative means for communication (Braille, large print, audio tape, etc.) should contact the USDA Target Center at (202) 720-2600 (voice and TDD).

SUPPLEMENTARY INFORMATION: This rule corrects the proposed rule published in the Federal Register on November 28, 2006 (71 FR 68755) proposing to amend the regulations governing the selection and functions of FSA State and county committees. In FR Doc. E6-20052, section 7.22 stated that the State committees “shall be generally responsible for carrying out in the State all farm programs and farm loan programs or any other functions assigned by the Secretary or a designee of the Secretary.” In fact, the State committees currently are not, and are not proposed to be, responsible for carrying out farm loan programs. This document corrects the proposed rule to remove the reference to farm loan programs.

In proposed rule FR Doc. E6-20052 published on November 28, 2006 (71 FR 68755) make the following correction. On page 68761, in the first column, revise § 7.22 to read as follows:

§ 7.22 State committee duties.

The State committee, subject to the general direction and supervision of the Deputy Administrator, shall be generally responsible for carrying out in the State all farm programs or any other functions assigned by the Secretary or a designee of the Secretary.

Signed in Washington, DC, on January 4, 2007.
Mike Johanns,
Secretary of Agriculture.

[FR Doc. E7-298 Filed 1-11-07; 8:45 am]

BILLING CODE 3410-05-P